DEPARTMENT OF ENERGY

Federal Energy Regulatory Commission

Notice of Filings

August 30, 2005.

Take notice that the Commission received the following electric rate filings.

Docket Numbers: ER01-1011-007; ER01-1335-005.

Applicants: Redbud Energy LP; Magnolia Energy LP.

Description: Redbud Energy LP and Magnolia Energy LP submit notification of change in status and Magnolia Energy LP submits a revised tariff sheet to its market-based rate tariff.

Filed Date: 08/25/2005.

Accession Number: 20050829-0002.

Comment Date: 5 p.m. eastern time on Thursday, September 15, 2005.

Docket Numbers: ER01-2071-003.

Applicants: Desert Power. L.P.

Description: Desert Power, L.P. submits a notification of change in status to report a planned modification to the natural gas-fired, electric generating facility that it owns and operates.

Filed Date: 08/25/2005.

Accession Number: 20050826-0191.

Comment Date: 5 p.m. eastern time on Thursday, September 15, 2005.

Docket Numbers: ER03-40-001.

Applicants: Accent Energy Midwest, LLC.

Description: Accent Energy Midwest, LLC submits its updated market power analysis and a revision to its market-based rate tariff.

Filed Date: 08/25/2005.

Accession Number: 20050829-0008.

Comment Date: 5 p.m. eastern time on Thursday, September 15, 2005.

Docket Numbers: ER03-811-004.

Applicants: Entergy Services, Inc.

Description: Entergy Services, Inc., on behalf of Entergy Louisiana, Inc., submits a substitute Interconnection and Operating Agreement with Occidental Chemical Corporation in compliance with the Commission's Order issued 7/26/05, 112 FERC ¶ 61,125 (2005).

Filed Date: 08/25/2005.

Accession Number: 20050829-0011.

Comment Date: 5 p.m. eastern time on Thursday, September 15, 2005.

Docket Numbers: ER04-938-004.

Applicants: California Independent System Operator Corporation.

Description: The California Independent System Operator Corporation submits Second Revised Sheet No. 204 and Original Sheet No. 204-01 to its FERC Electric Tariff, First Replacement Volume No. 1, in compliance with the Commission's Order issued 7/26/05, 112 FERC ¶ 61,136 (2005).

Filed Date: 08/25/2005.

Accession Number: 20050829-0005.

Comment Date: 5 p.m. eastern time on Thursday, September 15, 2005.

Docket Numbers: ER05-413-004.

Applicants: Southern Company Services, Inc.

Description: Southern Company Services, Inc. Submits a Motion to Withdraw Compliance Filing and Reinstate Original Agreement.

Filed Date: 08/25/2005.

Accession Number: 20050825-5054.

Comment Date: 5 p.m. eastern time on Thursday, September 15, 2005.

Docket Numbers: ER05-1029-001.

Applicants: Midwest Independent Transmission System Operator, Inc.

Description: Midwest Independent Transmission System Operator, Inc. submits Fifth Revised Sheet No. 208 to its FERC Electric Tariff, Third Revised Volume No.1, in compliance with the Commission's Order issued 7/26/05, 112 FERC ¶ 61,122 (2005).

Filed Date: 08/25/2005.

Accession Number: 20050826-0190.

Comment Date: 5 p.m. eastern time on Thursday, September 15, 2005.

Docket Numbers: ER05-1052-001.

Applicants: Southwest Power Pool, Inc.

Description: Southwest Power Pool, Inc. (SPP) submits a compliance filing providing for a revision to an unexecuted ancillary services agreement between SPP, Westar Energy, Inc. and Kansas Power Pool, pursuant to the Commission's Order issued 7/26/05, 112 FERC ¶ 61,121 (2005).

Filed Date: 08/25/2005.

Accession Number: 20050829-0007.

Comment Date: 5 p.m. eastern time on Thursday, September 15, 2005.

Docket Numbers: ER05-1149-001.

Applicants: South Carolina Electric and Gas Company.

Description: South Carolina Electric and Gas Company (SCE&G) submits an amendment to its 6/27/2005 filed of an executed Service Agreement for Network Integration Transmission Service and a Network Operating Agreement between SCE&G and Central Electric Power Cooperative, Inc..

Filed Date: 08/25/2005.

Accession Number: 20050829-0009.

Comment Date: 5 p.m. eastern time on Thursday, September 15, 2005.

Docket Numbers: ER05-1165-001.

Applicants: South Carolina Electric and Gas Company.

Description: South Carolina Electric and Gas Company submits a supplement to its 6/29/05 filing of an executed Relay Equipment Agreement and a Cross Town Tie Breaker Agreement between SCE&G and the City of Orangeburg, South Carolina, Department of Public Utilities.

Filed Date: 08/25/2005.

Accession Number: 20050829-0006.

Comment Date: 5 p.m. eastern time on Thursday, September 15, 2005.

Docket Numbers: ER05-1388-000.

Applicants: Pacific Gas and Electric Company.

Description: Pacific Gas and Electric Company submits a fully executed Generator Special Facilities Agreement and an unexecuted Generator Interconnection Agreement with Federal Power Avenal, LLC.

Filed Date: 08/25/2005.

Accession Number: 20050829-0001.

Comment Date: 5 p.m. eastern time on Thursday, September 15, 2005.

Docket Numbers: ER05-1390-000.

Applicants: El Paso Electric Company; Public Service Company of New Mexico; Texas-New Mexico Power Company.

Description: El Paso Electric Company, Public Service Company of New Mexico and Texas-New Mexico Power Company (collectively, Utilities) submit Second Revised Interconnection Agreement between the Utilities and Phelps Dodge Energy Services, LLC; Tucson Electric Power Company; PNMR Development and Management Corporation; and Luna Power Company.

Filed Date: 08/25/2005.

Accession Number: 20050826-0216.

Comment Date: 5 p.m. eastern time on Thursday, September 15, 2005.

Docket Numbers: ER05-1391-000.

Applicants: Peak Power Generating Company, Inc.

Description: Peak Power Generating Company, Inc. submits a Notice of Cancellation of its FERC Electric Tariff, Original Volume No. 1, originally accepted for filing under RAMCO, Inc.

Filed Date: 08/25/2005.

Accession Number: 20050826-0186.

Comment Date: 5 p.m. eastern time on Thursday, September 15, 2005.

Docket Numbers: ER05-1392-000.

Applicants: Duquesne Light Company.

Description: Duquesne Light Company submits a notice of cancellation of their Open Access Transmission Tariff.

Filed Date: 08/25/2005.

Accession Number: 20050826-0184.

Comment Date: 5 p.m. eastern time on Thursday, September 15, 2005.

Docket Numbers: ER05-1393-000.

Applicants: Entergy Services, Inc.

Description: Entergy Services, Inc., on behalf of Entergy Gulf States, Inc. and Entergy Louisiana, Inc. submits an amendment to the System Interconnection Agreement between Entergy Gulf States, Inc. and Central Louisiana Electric Company, Inc.

Filed Date: 08/25/2005.

Accession Number: 20050826-0185.

Comment Date: 5 p.m. eastern time on Thursday, September 15, 2005.

Docket Numbers: ER05-1394-000.

Applicants: KGen Hot Spring LLC.

Description: KGen Hot Spring LLC submits a rate schedule under which specifies its rates for providing cost-based Reactive Support and Voltage Control from Generation Sources Service from its natural gas-fired, combined cycle electric generation facility located in Hot Spring County, Arkansas that is currently in the Entergy Arkansas, Inc. control area.

Filed Date: 08/25/2005

Accession Number: 20050826-0194.

Comment Date: 5 p.m. eastern time on Thursday, September 15, 2005.

Docket Numbers: ER05-1400-000.

Applicants: Sussex Rural Electric Cooperative.

Description: Sussex Rural Electric Cooperative withdraws its Rate Schedule No. 1, which was accepted as a jurisdictional rate schedule, and is no longer subject to the Commission's jurisdiction.

Filed Date: 08/18/2005.

Accession Number: 20050819-0086.

Comment Date: 5 p.m. eastern time on Thursday, September 08, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Linda Mitry,
Deputy Secretary.

[FR Doc. E5-4836 Filed 9-2-05; 8:45 am]

BILLING CODE 6717-01-P